DEPARTMENT OF HEALTH AND HUMAN SERVICES

National Institutes of Health

National Institute of Environmental Health Sciences; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Environmental Health Sciences Special Emphasis Panel Centers for Children's Environmental Health and Disease Prevention Research (RFA ES-00-008).

Date: March 11-14, 2001.

Time: 7 p.m. to 2 p.m.

Agenda: To review and evaluate grant applications.

Place: NC Biotechnology Center, 15 T. W. Alexander Drive, Post Office Box 13547, Research Triangle Park, NC 27709.

Contact Person: Linda K. Bass, PhD, Scientific Review Administrator, NIEHS, PO Box 12233 EC-30, Research Triangle Park NC 27709, (919) 541-1307.

Name of Committee: National Institute of Environmental Health Sciences Special Emphasis Panel Advanced Research Cooperation in Environmental Health Sciences (ARCH), RFA ES-00-006.

Date: March 14-16, 2001.

Time: 7 p.m. to 3 p.m.

Agenda: To review and evaluate grant applications.

Place: Hawthorn Suites Hotel, 300 Meredith Drive, Durham, NC 27713.

Contact Person: J. Patrick Mastin, PhD, Scientific Review Administrator, Scientific Review Branch/DERT, NIEHS, P.O. Box 12233 MD EC-30, Research Triangle Park, NC 27709 (919) 541-1446.

Name of Committee: National Institute of Environmental Health Sciences Special Emphasis Panel Research Scientist Development Awards (KO2s).

Date: April 11, 2001.

Time: 1 p.m. to 2 p.m.

Agenda: To review and evaluate grant applications.

Place: NIEHS—East Campus, Building 4401, Conference Room 122, 79 Alexander Drive, Research Triangle Park, NC 27709 (Telephone Conference Call).

Contact Person: Linda K. Bass, PhD, Scientific Review Administrator, NIEHS, PO Box 12233 EC-30, Research Triangle Park, NC 27709 (919) 541-1307.

Name of Committee: National Institute of Environmental Health Sciences Special Emphasis Panel Mentored Quantitative Research Career Development Awards (K25s).

Date: April 11, 2001.

Time: 2 p.m. to 3 p.m.

Agenda: To review and evaluate grant applications.

Place: NIEHS—East Campus, Building 4401, Conference Room 122, 79 Alexander Drive, Research Triangle Park, NC 27709 (Telephone Conference Call).

Contact Person: Linda K. Bass, PhD, Scientific Review Administrator, NIEHS, PO Box 12233 EC-30, Research Triangle Park, NC 27709 (919) 541-1307.

Name of Committee: National Institute of Environmental Health Sciences Special Emphasis Panel Mentored Patient-Oriented Research Career Development Awards (K23s).

Date: April 12, 2001.

Time: 1 p.m. to 3 p.m.

Agenda: To review and evaluate grant applications.

Place: NIEHS, 79 T. W. Alexander Drive, Building 4401, Conference Room 3446, Research Triangle Park, NC 27709 (Telephone Conference Call).

Contact Person: Linda K. Bass, PhD, Scientific Review Administrator, NIEHS, PO Box 12233 EC-30, Research Triangle Park, NC 27709, (919) 541-1307.

(Catalogue of Federal Domestic Assistance Program Nos. 93.113, Biological Response to Environmental Health Hazards; 93.114, Applied Toxicological Research and Testing; 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences, National Institutes of Health, HHS)
Dated: January 18, 2001.
LaVerne Y. Stringfield,
Director, Office of Federal Advisory Committee Policy.

[FR Doc. 01-2333 Filed 1-25-01; 8:45 am]

BILLING CODE 4140-01-M